DEPARTMENT OF HEALTH AND HUMAN SERVICES

Office of the Secretary

Agency Information Collection Activities: Proposed Collections; Comment Request

The Department of Health and Human Services, Office of the Secretary will periodically publish summaries of proposed information collections projects and solicit public comments in compliance with the requirements of Section 3506(c)(2)(A) of the Paperwork Reduction Act of 1995. To request more information on the project or to obtain a copy of the information collection plans and instruments, call the OS Reports Clearance Officer on (202) 690-6207.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Projects:

1. Public Health Service Acquisition Regulation—PHSAR Part 380—Special Program Requirements Affecting PHS Acquisitions, and Part 352—Solicitation Provisions and Contract Clauses—0990-0128—Extension—This clearance request addresses recordkeeping and reporting requirements in the Public Health Service Acquisition Regulation (PHSAR) for acquisitions involving safety and health, drugs and medical supplies, reusable cylinders, and laboratory animals. Respondents: State or local governments, Businesses or other for-profit, non-profit institutions, Small businesses; Burden Information for Drugs and Medical Supplies—Total Number of Respondents: 43; Annual Frequency of Response: three times; average Burden per Response: 2 hours; Estimated Annual Burden for Drugs and Medical Supplies Requirement: 258 hours.—Burden Information on Reusable Cylinders—Total Number of Respondents: 8; Annual Frequency of Response: five times; Average Burden per Response: 1 hour; Estimated Annual Burden for Reusable Cylinders Requirement: 40 hours.—Burden Information for Laboratory Animals—Total Number of Respondents: 63; Annual Frequency of Response: one time; Average Burden per Response: 10 hours; Estimated Annual Burden for Laboratory Animals Requirement: 630 hours.—Burden Information for Safety and Health—Total Number of Respondents: 60; Annual Frequency of Response: one time; Average Burden per Response: 8 hours; Estimated Annual Burden for Health and Safety Requirement: 480 hours.—Total Burden: 1,408 hours.

2. Uniform Relocation and Real Property Acquisition Under Federal and Federally-assisted Programs (45 CFR Part 15 and 49 CFR Part 24)—0990-0150—Extension—HHS has adopted standard government-wide regulations on acquisition of real property and relocation of persons thereby displaced. Federal agencies and State and local governments must maintain records of their displacement activities sufficient to demonstrate compliance with these regulations. Respondents: State or local governments; Annual Number of Respondents: one; Frequency of Response: once; Burden per Response: one hour.

Send comments to Cynthia Agens Bauer, OS Reports Clearance Officer, Room 503H, Humphrey Building, 200 Independence Avenue SW., Washington, DC 20201. Written comments should be received within 60 days of this notice.

Dated: November 6, 2000.
Dennis P. Williams,
Deputy Assistant Secretary, Budget.

[FR Doc. 00-30055 Filed 11-24-00; 8:45 am]

BILLING CODE 4150-24-M